COMMITTEE FOR PURCHASE FROM PEOPLE WHO ARE BLIND OR SEVERELY DISABLED

Procurement List Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

Comments must be received on or before: 10/11/2010.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION:

This notice is published pursuant to 41 U.S.C 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products:

NSN: 8470-00-NSH-0030—Improved Oxygen Harness

NSN: 8470-00-NSH-0031—Center Mounted Weapon Harness

NPA: Employment Source, Inc., Fayetteville, NC

Contracting Activity: Dept of the Army, XR W2DF RDECOM ACQ CTR, NATICK, MA

COVERAGE: C-List for 100% of the requirements of the U.S. Army, as aggregated by the Department of the Army Research, Development, & Engineering Command, Natick, MA.

Cold Weather Midweight Drawers (GEN III)

NSN: 8415-01-538-8727—Drawers Size Small Regular

NSN: 8415-01-538-8730—Drawers Size Medium Regular

NSN: 8415-01-538-8745—Drawers Size Large Regular

NSN: 8415-01-538-8747—Drawers Size Large Long

NSN: 8415-01-538-8750—Drawers Size X Large Regular

NSN: 8415-01-538-8751—Drawers Size X Large Long

NSN: 8415-01-545-7672—Drawers Size X Small Short

NSN: 8415-01-545-7676—Drawers Size X Small Regular

NSN: 8415-01-545-7717—Drawers Size Small Short

NSN: 8415-01-545-7768—Drawers Size Small Long

NSN: 8415-01-545-7810—Drawers Size Medium Long

NSN: 8415-01-545-7960—Drawers Size X Large X Long

NSN: 8415-01-545-7965—Drawers Size XX Large Regular

NSN: 8415-01-545-7966—Drawers Size XX Large Long

NSN: 8415-01-545-7968—Drawers Size XX Large X Long

NPAs: New Horizons Rehabilitation Services, Inc., Auburn Hills, MI

Peckham Vocational Industries, Inc., Lansing, MI Contracting Activity: Defense Logistics Agency, Defense Supply Center Philadelphia, Philadelphia, PA

Coverage: C-List for an additional 25% of the requirement of the Department of Defense, as aggregated by the Defense Logistics Agency Troop Support, Philadelphia, PA. Note that 75% of this requirement is already on the PL; this addition will bring the total to 100% of the requirement.

Services:

Service Type/Locations: Custodial Service, USARC Mare Island, 1481 Railroad Ave., Vallejo, CA. USARC Hunter Hall, 2600 Castro Rd., San Pablo, CA.

NPA: Solano Diversified Services, Vallejo, CA.

Contracting Activity: Dept of the Army, XR W6BB ACA Presidio of Monterey, Presidio of Monterey, CA.

Service Type/Location: Janitorial Service, Anchorage FAA Tower/TRACON, 5200 West International Airport Road, Anchorage, AK.

NPA: MQC Enterprises, Inc., Anchorage, AK.

Contracting Activity: Dept of Transportation, Federal Aviation Administration, Northwest/Mountain REG, LOG. DIV (ANM-55), Renton, WA.

Service Type/Location: Custodial Service, Isle Royale National Park, Houghton, MI.

NPA: Goodwill Industries of Northern Wisconsin and Upper Michigan, Marinette, WI Contracting Activity: National Park Service, Midwest Region, Major Acquisition Buying Office, Sagamore Hills, OH.

Barry S. Lineback,
Director, Business Operations.

[FR Doc. 2010-22621 Filed 9-9-10; 8:45 am]

BILLING CODE 6353-01-P